DEPARTMENT OF HOUSING AND URBAN DEVELOPMENT

[Docket No. FR-5849-N-04]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a meeting of the MHCC. The meeting is open to the public and the site is accessible to individuals with disabilities. The agenda provides an opportunity for citizens to comment on the business before the MHCC.

DATES: The meeting will be held on August 18 thru August 20, 2015, from 9:00 a.m. to 5:00 p.m. Eastern Standard Time (EST) daily.

ADDRESSES: The meeting will be held at the Holiday Inn Washington-Capitol, 550 C Street SW., Washington, DC 20024.

FOR FURTHER INFORMATION CONTACT: Pamela Beck Danner, Administrator, Office of Manufactured Housing Programs, Department of Housing and Urban Development, 451 7th Street SW., Room 9166, Washington, DC 20410, telephone (202) 708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569, approved December 27, 2000). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register by or before August 3, 2015 by contacting Home Innovation Research Labs; Attention: Kevin Kauffman, 400 Prince Georges Blvd., Upper Marlboro, MD 20774, or email to mhcc@homeinnovation.com. Written comments are encouraged. The MHCC strives to accommodate citizen comments to the extent possible within the time constraints of the meeting agenda. Advance registration is strongly encouraged. The MHCC will also provide an opportunity for public comment on specific matters before the MHCC.

Tentative Agenda

Tuesday, August 18, 2015

I. Call to Order and Roll Call Administering Organization (AO)

II. Opening Remarks—Chair & Designated Federal Officer (DFO)

III. Approve MHCC draft minutes from December 2-4, 2014 Meeting

IV. Update on approved proposals—HUD

V. Subcommittee Reports to MHCC

• Technical Systems Subcommittee

• General Subcommittee

○ Log 128—Resolution of Action Item 5

• Structure and Design Subcommittee

○ Log 78

○ Log 100

○ Log 129—Resolution of Action Item 3

• Regulatory Enforcement Subcommittee

VI. Public Comment Period #1

VII. Review Current Log and Action Items

VIII. Update on Energy Efficiency Standards for Manufactured Homes—DOE

IX. Open Discussion

X. Adjourn: 5:00 p.m.

Wednesday, August 19, 2015

I. Reconvene Meeting—Chair & DFO

II. Roll Call—Administering Organization (AO)

III. Status of EPA's final rule on Formaldehyde emissions from Composite Wood Products—EPA

IV. Continue Review of Current Log and Action Items

V. Amend By-Laws to include 2-year revision cycle

VI. MHI Technical Activities Committee Report on HUD Code Reference Standards Updates

VII. Subcommittee Reports to MHCC (if necessary)

○ Technical Systems Subcommittee

○ General Subcommittee

○ Structure and Design Subcommittee

○ Regulatory Enforcement Subcommittee

VIII. Public Comment Period #2

IX. Installation Program Presentation

X. Open Discussion

XI. Adjourn: 5:00 p.m.

Thursday, August 20, 2015

I. Reconvene Meeting—Chair & DFO

II. Roll Call—Administering Organization (AO)

III. Subcommittee Reports to MHCC (if necessary)

• Technical Systems Subcommittee

• General Subcommittee

• Structure and Design Subcommittee

• Regulatory Enforcement Subcommittee

IV. Solar Panel Presentation

V. SAA Payments from the Fees

VI. Public Comment Period #3

VII. Dispute Resolution Program Presentation

VIII. Continue Review of Current Log and Action Items

IX. Subcommittee Meetings

• Technical Systems Subcommittee

• General Subcommittee

• Structure and Design Subcommittee

• Regulatory Enforcement Subcommittee

X. Adjourn: 5:00 p.m.

Dated: July 20, 2015.
Pamela Beck Danner,
Administrator, Office of Manufactured Housing Programs.

[FR Doc. 2015-18225 Filed 7-23-15; 8:45 am]

BILLING CODE 4210-67-P